FEDERAL COMMUNICATIONS COMMISSION

[WC Docket No. 07-21; DA 08-1361]

Comment Sought on Request of Verizon and Qwest to Extend Forbearance Relief From Cost Assignment Rules

AGENCY: Federal Communications Commission.

ACTION: Notice; comments requested.

SUMMARY: On April 24, 2008, the Commission conditionally granted AT&T's and BellSouth's (collectively AT&T) petitions for forbearance. On May 23, 2008, Verizon, on behalf of itself and Qwest, requested that the Commission grant the same forbearance to Verizon and Qwest. This document seeks comment on the issues raised in the Verizon/Qwest Request.

DATES: Submit comments on or before June 26, 2008. Submit reply comments on or before July 7, 2008.

ADDRESSES: You may submit comments, identified by WC Docket No. 07-21, by any of the following methods:

• Federal eRulemaking Portal: http://www.regulations.gov. Follow the instructions for submitting comments.

• Agency Web Site: http://www.fcc.gov. Follow the instructions for submitting comments on the Electronic Comment Filing System (ECFS) / http://www.fcc.gov/cgb/ecfs/.

• E-mail: to christi.shewman@fcc.gov. Include WC Docket 07-21 in the subject line of the message.

• Fax: To the attention of Christi Shewman at 202-418-1587. Include WC Docket 07-21 on the cover page.

• Mail: All filings must be addressed to the Commission's Secretary, Marlene H. Dortch, Office of the Secretary, Federal Communications Commission, 445 12th Street, SW., Washington, DC 20554. Parties should also send a copy of their filings to Christi Shewman, Pricing Policy Division, Wireline Competition Bureau, Federal Communications Commission, 445 12th Street, SW., Washington, DC 20554.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

Instructions: All submissions received must include the agency name and docket number. All comments received will be posted without change to http://www.fcc.gov/cgb/ecfs/, including any personal information provided. For detailed instructions on submitting comments and additional information on the rulemaking process, see the “Comment Filing Procedures” heading of the SUPPLEMENTARY INFORMATION section of this document.

FOR FURTHER INFORMATION CONTACT: Christi Shewman, Wireline Competition Bureau, Pricing Policy Division, (202) 418-1686.

SUPPLEMENTARY INFORMATION: On April 24, 2008, the Commission conditionally granted AT&T's and BellSouth's (collectively AT&T) petitions for forbearance from 47 U.S.C. 220(a)(2) of the Act (to a limited extent) and various rules, including the following: 47 CFR 32.23 (nonregulated activities); 47 CFR 32.27 (transactions with affiliates); 47 CFR part 64, subpart I (allocation of costs); 47 CFR part 36 (jurisdictional separations procedures); 47 CFR part 69, subparts D and E (cost apportionment); and other related rules that are derivatives of, or dependent on, the foregoing rules. The Commission referred to the statutory provision and Commission rules from which AT&T sought forbearance collectively as the “Cost Assignment Rules.” The grant was expressly conditioned on, among other things, the Wireline Competition Bureau's approval of a compliance plan to be filed by AT&T describing in detail how it will continue to fulfill its statutory and regulatory obligations. On May 23, 2008, Verizon, on behalf of itself and Qwest, requested that the Commission grant the same forbearance to Verizon and Qwest.

By this public notice, we seek comment on the issues raised in the Verizon/Qwest Request. Interested parties may file comments on the Verizon/Qwest Request on or before June 26, 2008 and reply comments on or before July 7, 2008. All pleadings should reference WC Docket No. 07-21.

This matter shall be treated as a “permit-but-disclose” proceeding in accordance with the Commission's ex parte rules. See 47 CFR 1.1200, 1.1206. Persons making oral ex parte presentations are reminded that memoranda summarizing the presentations must contain summaries of the substance of the presentations and not merely a listing of the subjects discussed. More than a one- or two-sentence description of the views and arguments presented generally is required. See 47 CFR 1.1206(b). Other rules pertaining to oral and written ex parte presentations in permit-but-disclose proceedings are set forth in section 1.1206(b) of the Commission's rules, 47 CFR 1.1206(b).

Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the website for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Filings and comments are also available for public inspection and copying during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone 202-488-5300, facsimile 202-488-5563, or via e-mail at fcc@bcpiweb.com.

Authority: 47 U.S.C. 154(i), 160, 220.

Federal Communications Commission.
Marcus Maher,
Associate Chief, Wireline Competition Bureau.

[FR Doc. E8-13292 Filed 6-11-08; 8:45 am]

BILLING CODE 6712-01-P